FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than October 17, 2024.

A. Federal Reserve Bank of Chicago (Colette A. Fried, Assistant Vice President) 230 South LaSalle Street, Chicago, Illinois 60690-1414. Comments can also be sent electronically to Comments.applications@chi.frb.org:

1. Joseph Loundy, Ari Loundy, and Irving Loundy, all of Chicago, Illinois; Daniel Loundy, Ingleside, Illinois; David Loundy, Alexander Loundy, and Samuel Loundy, all of Glencoe, Illinois; Ronen Loundy, Kenosha, Wisconsin; Elan Loundy, Boulder, Colorado; and Donna Loundy and LFI Glenview, LLC, both of Glenview, Illinois; a group acting in concert, to retain voting shares of Devon Bancorp, Inc., and thereby indirectly retain voting shares of Devon Bank, both of Chicago, Illinois.

B. Federal Reserve Bank of St. Louis (Holly A. Rieser, Senior Manager) P.O. Box 442, St. Louis, Missouri 63166-2034. Comments can also be sent electronically to Comments.applications@stls.frb.org:

1. Joel L. Weeks, St. Louis, Missouri; to acquire control of voting shares of FB Corporation, which controls The San Francisco Company, which controls First Bank, all of Creve Coeur, Missouri, by becoming trustee of the JFD Class B Common Trust (MJD), Creve Coeur, Missouri, the JFD Class B Common Trust (EDM), the EDM Class A Common Trust, and the EDM Class A Common Trust II, all of Jackson, Wyoming.

Board of Governors of the Federal Reserve System.
Erin Cayce,
Assistant Secretary of the Board.

[FR Doc. 2024-22714 Filed 10-1-24; 8:45 am]

BILLING CODE 6210-01-P